NATIONAL AERONAUTICS AND SPACE ADMINISTRATION

[Notice: 14-125]

NASA Advisory Council; Human Exploration and Operations Committee; Meeting Postponement

AGENCY: National Aeronautics and Space Administration.

ACTION: Notice of postponement of meeting.

SUMMARY: In accordance with the Federal Advisory Committee Act, Public Law 92-463, as amended, NASA announces a postponement of the previously announced meeting of the Human Exploration and Operations Committee of the NASA Advisory Council (NAC). The meeting had been scheduled to be held on December 2 and 3, 2014. The meeting is being postponed by NASA due to exceptional circumstances and schedule conflicts of the NASA top leadership. The latter's attendance is required during this period for the NASA Senior Management Council meeting and final countdown preparations for launch of the Orion Exploration Flight Test-1 (EFT-1) on December 4, 2014, at NASA Kennedy Space Center in Florida.

FOR FURTHER INFORMATION CONTACT: Dr. Bette Siegel, Human Exploration and Operations Mission Directorate, NASA Headquarters, Washington, DC 20546, (202) 358-2245, or bette.siegel@nasa.gov.

SUPPLEMENTARY INFORMATION: The meeting was originally announced as NASA Notice 14-113 in the Federal Register on November 13, 2014, at 79 FR 67468. The meeting had been scheduled to be held on Tuesday, December 2, 2014, 10 a.m.-6 p.m.; and Wednesday, December 3, 2014, 8 a.m. to 4:30 p.m.; Local Time, at NASA Headquarters, 300 E Street SW., Washington, DC 20546.

Patricia D. Rausch,
Advisory Committee Management Officer, National Aeronautics and Space Administration.

[FR Doc. 2014-28061 Filed 11-25-14; 8:45 am]

BILLING CODE 7510-13-P